DEPARTMENT OF HEALTH AND HUMAN SERVICES

Centers for Disease Control and Prevention

[60 Day-15-15PI]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Extended Evaluation of the National Tobacco Prevention and Control Public Education Campaign—New—National Center for Chronic Disease Prevention and Health Promotion (NCCDPHP), Centers for Disease Control and Prevention (CDC).

Background and Brief Description

In 2012, Centers for Disease Control and Prevention (CDC) launched the first federally funded, national mass media campaign to educate consumers about the adverse health consequences of tobacco use (the National Tobacco Prevention and Control Public Education Campaign, or “The Campaign”). The Campaign continued in 2013 and 2014 with advertisements known as “Tips from Former Smokers.” Activities for Phase 3 of the campaign are ongoing. To assess the impact of The Campaign in Phases 1-3, CDC obtained OMB approval to conduct a series of longitudinal surveys of smokers and nonsmokers (OMB Control Number 0920-0923, exp. 3/31/2017).

New media activities for Phases 4 and 5 of The Campaign are scheduled to launch in March 2015. To support evaluation of The Campaign through Phase 5, CDC plans to field four new waves of information collection. The surveys will be fielded in English and Spanish and will occur during late 2015, 2016, and early 2017. Once enrolled in the first wave of data collection, all participants will be re-contacted for follow-up at subsequent survey waves.

The sample for the data collection will originate from two sources: (1) An online longitudinal cohort of smokers and nonsmokers, sampled randomly from postal mailing addresses in the United States (address-based sample, or ABS); and (2) the existing GfK KnowledgePanel, an established long-term online panel of U.S. adults. The ABS-sourced longitudinal cohort will consist of smokers and nonsmokers who have not previously participated in any established online panels to reduce potential panel conditioning bias from previous participation. The new cohort will be recruited by GfK, utilizing similar recruitment methods that are used in the recruitment of KnowledgePanel. The GfK KnowledgePanel will be used in combination with the new ABS-sourced cohort to support larger sample sizes that will allow for more in-depth subgroup analysis, which is a key objective for CDC. All online surveys, regardless of sample source, will be conducted via the GfK KnowledgePanel Web portal for self-administered surveys.

Information will be collected through Web surveys to be self-administered on computers in the respondents' homes or in another convenient location. Information will be collected about smokers' and nonsmokers' awareness of and exposure to specific campaign advertisements; knowledge, attitudes, beliefs related to smoking and secondhand smoke; and other marketing exposure. The surveys will also measure behaviors related to smoking cessation (among the smokers in the sample) and behaviors related to nonsmokers' encouragement of smokers to quit smoking, recommendations of cessation services, and attitudes about other tobacco and nicotine products.

It is important to evaluate The Campaign in a context that assesses the dynamic nature of tobacco product marketing and uptake of various tobacco products, particularly since these may affect successful cessation rates. Survey instruments may be updated to include new or revised items on relevant topics, including cigars, noncombustible tobacco products, and other emerging trends in tobacco use.

OMB approval is requested for two years. Participation is voluntary and there are no costs to respondents other than their time.

Estimated Annualized Burden Hours
Type of respondent | Form name | Number of respondents | Number of responses per respondent | Average burden per response (in hours) | Total burden (in hours)
General Population | Screening and Consent Questionnaire | 25,000 | 1 | 5/60 | 2,083
Adults Smokers and Nonsmokers, ages 18-54, in the United States | Smoker Survey (Wave A) Smoker Survey (Wave B) Smoker Survey (Wave C) | 6,500 4,000 4,000 | 1 1 1 | 30/60 30/60 30/60 | 3,250 2,000 2,000
| Smoker Survey (Wave D) | 4,000 | 1 | 30/60 | 2,000
| Nonsmoker Survey (Wave A) | 2,500 | 1 | 30/60 | 1,250
| Nonsmoker Survey (Wave B) | 2,000 | 1 | 30/60 | 1,000
| Nonsmoker Survey (Wave C) | 2,000 | 1 | 30/60 | 1,000
| Nonsmoker Survey (Wave D) | 2,000 | 1 | 30/60 | 1,000
Total |  |  |  |  | 15,583

Leroy A. Richardson,
Chief, Information Collection Review Office, Office of Scientific Integrity, Office of the Associate Director for Science, Office of the Director, Centers for Disease Control and Prevention.

[FR Doc. 2015-03825 Filed 2-24-15; 8:45 am]

BILLING CODE 4163-18-P